DEPARTMENT OF HOMELAND SECURITY

Coast Guard

33 CFR Part 117

[USCG-2008-0115]

RIN 1625-AA09

Drawbridge Operation Regulations; Potomac River, Between Maryland and Virginia

AGENCY: Coast Guard, DHS.

ACTION: Notice of temporary deviation from regulations.

SUMMARY: The Commander, Fifth Coast Guard District, has approved an additional temporary deviation from the regulations governing the operation of the new Woodrow Wilson Memorial (I-95) Bridge, mile 103.8, across Potomac River between Alexandria, Virginia and Oxon Hill, Maryland. While construction continues, this added deviation allows the drawbridge to remain closed-to-navigation each day from 10 a.m. to 2 p.m. beginning March 2, 2008 until and including May 30, 2008.

DATES: This deviation is effective from 10 a.m. on March 2, 2008, until 2 p.m. on May 30, 2008.

ADDRESSES: Materials referred to in this document are available for inspection or copying at Commander (dpb), Fifth Coast Guard District, Federal Building, 1st Floor, 431 Crawford Street, Portsmouth, VA 23704-5004 between 8 a.m. and 4 p.m., Monday through Friday, except Federal holidays. The telephone number is (757) 398-6222. Commander (dpb), Fifth Coast Guard District maintains the public docket for this temporary deviation.

FOR FURTHER INFORMATION CONTACT: Waverly W. Gregory, Jr., Bridge Administrator, Fifth Coast Guard District, at (757) 398-6222.

SUPPLEMENTARY INFORMATION: On January 25, 2008, we published a notice of temporary deviation from the regulations entitled “Drawbridge Operation Regulations; Potomac River, Between Maryland and Virginia” in the Federal Register (73 FR 4472).

The Maryland State Highway Administration and the Virginia Department of Transportation, co-owners of the drawbridge, requested an extension of the aforementioned temporary deviation with new dates in an effort to minimize the potential for major regional traffic impacts and consequences during bridge openings while construction continues.

Bridge owners requested that the new drawbridge not be available for openings for vessels each day between the hours of 10 a.m. to 2 p.m. from Sunday, March 2, 2008 through Friday, May 30, 2008. The temporary deviation will only affect vessels with mast heights of 75 feet or greater. Furthermore, all affected vessels with mast heights greater than 75 feet will be able to receive an opening of the new drawbridge in the “off-peak” vehicle traffic hours (evening and overnight) in accordance with 33 CFR 117.255(a).

The Coast Guard will inform the users of the waterway through our Local and Broadcast Notices to Mariners of the closure period for the bridge so that vessels can arrange their transits to minimize any impact caused by the temporary deviation.

In accordance with 33 CFR 117.35(e), the drawbridge must return to its regular operating schedule immediately at the end of the designated time period. This deviation from the operating regulations is authorized under 33 CFR 117.35.

Dated: February 25, 2008.
Waverly W. Gregory, Jr.,
Chief, Bridge Administration Branch, Fifth Coast Guard District.

[FR Doc. E8-4932 Filed 3-11-08; 8:45 am]

BILLING CODE 4910-15-P